DEPARTMENT OF JUSTICE

Drug Enforcement Administration

Manufacturer of Controlled Substances; Notice of Registration; Noramco, Inc. (GA)

By Notice dated June 7, 2013, and published in the Federal Register on June 20, 2013, 78 FR 37241, Noramco, Inc., 1440 Olympic Drive, Athens, Georgia 30601, made application to the Drug Enforcement Administration (DEA) to be registered as a bulk manufacturer of Opium Tincture (9630), a basic class of controlled substance listed in schedule II.

The company plans to manufacture the listed controlled substance in bulk for distribution to its customers.

No comments or objections have been received. DEA has considered the factors in 21 U.S.C. 823(a) and determined that the registration of Noramco, Inc., to manufacture the listed basic class of controlled substance is consistent with the public interest at this time.

DEA has investigated Noramco, Inc., to ensure that the company's registration is consistent with the public interest. The investigation has included inspection and testing of the company's physical security systems, verification of the company's compliance with state and local laws, and a review of the company's background and history.

Therefore, pursuant to 21 U.S.C. 823(a), and in accordance with 21 CFR 1301.33, the above named company is granted registration as a bulk manufacturer of the basic class of controlled substance listed.

Dated: October 10, 2013.
Joseph T. Rannazzisi,
Deputy Assistant Administrator, Office of Diversion Control, Drug Enforcement Administration.

[FR Doc. 2013-25067 Filed 10-24-13; 8:45 am]

BILLING CODE 4410-09-P